ENVIRONMENTAL PROTECTION AGENCY

40 CFR Parts 52 and 81

[EPA-R10-OAR-2020-0305; FRL-8878-02-R10]

Air Plan Approval; ID; West Silver Valley Redesignation to Attainment for the 2012 Annual PM2.5 Standard

AGENCY: Environmental Protection Agency (EPA).

ACTION: Final rule.

SUMMARY: The Environmental Protection Agency (EPA) is redesignating the West Silver Valley, Idaho nonattainment area to attainment for the 2012 annual fine particulate matter (PM2.5) National Ambient Air Quality Standard (NAAQS). EPA is also approving a maintenance plan for the area that demonstrates continued attainment of the 2012 PM2.5 NAAQS through the year 2031, which Idaho submitted along with the redesignation request for inclusion into the Idaho State Implementation Plan (SIP). Additionally, EPA is approving the 2031 motor vehicle emissions budgets included in Idaho's maintenance plan for PM2.5, nitrogen oxides and volatile organic compounds. EPA is taking this action pursuant to the Clean Air Act (CAA or the Act).

DATES: This action is effective on December 16, 2021.

ADDRESSES: EPA has established a docket for this action under Docket ID No. EPA-R10-OAR-2020-0305. All documents in the docket are listed on the https://www.regulations.gov website. Although listed in the index, some information is not publicly available, e.g., CBI or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Claudia Vaupel, (206) 553-6121, vaupel.claudia@epa.gov.

SUPPLEMENTARY INFORMATION: Throughout this document whenever “we,” “us,” or “our” is used, it is intended to refer to EPA.

I. Background

On June 2, 2020, Idaho submitted a request for EPA to redesignate the West Silver Valley area to attainment for the 2012 annual PM2.5 NAAQS under section 107(d)(3)(E) of the CAA. On September 15, 2021, EPA proposed to approve Idaho's SIP revision (86 FR 51318). An explanation of the CAA requirements, a detailed analysis of the submittal, and the EPA's reasons for approval were provided in the notice of proposed rulemaking. The public comment period for this proposed rulemaking closed on October 15, 2021. EPA received no comments during the public comment period.

II. Final Action

EPA is redesignating the West Silver Valley 2012 annual PM2.5 nonattainment area and is approving the associated maintenance plan and motor vehicle emission budgets for the area. The designation status of the West Silver Valley under 40 CFR part 81 will be revised to attainment upon the effective date of this final action.

III. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and it will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by JANUARY 18, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: November 4, 2021.
Michelle L. Pirzadeh,
Acting Regional Administrator, Region 10.

For the reasons set forth in the preamble, 40 CFR parts 52 and 81 are amended as follows:

PART 52—APPROVAL AND PROMULGATION OF IMPLEMENTATION PLANS

1. The authority citation for part 52 continues to read as follows:

Authority: 42 U.S.C. 7401 et seq.

Subpart N—Idaho

2. In § 52.670, the table in paragraph (e) is amended by adding an entry at the end of the table for “West Silver Valley PM2.5 Nonattainment Area Redesignation Request and Maintenance Plan” to read as follows:

§ 52.670 Identification of plan.

* * * * *

(e) * * *

EPA-Approved Idaho Nonregulatory Provisions and Quasi-Regulatory Measures
Name of SIP provision | Applicable geographic or nonattainment area | State submittal date | EPA approval date | Comments
* * * * * * *
West Silver Valley PM2.5 Maintenance Plan | West Silver Valley, ID | 6/2/2020 | 11/16/2021, [INSERT FEDERAL REGISTER CITATION] |

PART 81—DESIGNATION OF AREAS FOR AIR QUALITY PLANNING PURPOSES

3. The authority citation for part 81 continues to read as follows:

Authority: 42 U.S.C. 7401 et seq.

4. In § 81.313 amend in the table entitled “Idaho—2012 Annual PM 2.5 NAAQS” by revising the entry for “Shoshone County (part)” to read as follows:

§ 81.313 Idaho.

* * * * *

Idaho—2012 Annual PM2.5 NAAQS
[Primary]
Designated area ¹ | Designation: Date ² | Designation: Type | Classification: Date ² | Classification: Type
West Silver Valley, ID:
Shoshone County (part) | 11/16/2021 | Attainment
That portion of Shoshone County, which is described as follows: T50N, R02E, Sections 14, 15, 22-27, 29-36; T49N, R01E, Sections 2, 11-14, 23-26, 35, 36 and Sections 10,15, 22, 27, 34 east of Kootenai County boundary; T49N, R02E, Sections 1-36; T49N, R03E, Sections 7, 13-36; T49N, R04E, Sections 19, 30, 31; T48N, R01E, Sections 1, 2, 11-14, 22-27, 34-36 and Sections 3, 10, 15 east of Kootenai County boundary; T48N, R02E, Sections 1-36; T48N, R03E, Sections 2-10, 16-20, 30, 31; T48N, R03E, Section 1, NWNW, SWNW, NWSW, SWSW; T48N, R03E, Section 11, NW¼, NE¼, NWSW, NESW, NWSE, NESE; T48N, R03E, Section 12, NWNW, SWNW, NWSW; T47N, R01E, Sections 1-3, 10-15, 22-27; T47N, R02E, Sections 1-23, 28-30; T47N, R03E, Sections 5-8, 17, and 18
* * * * * * *
¹ Includes areas of Indian country located in each county or area, except as otherwise specified.
² This date is April 15, 2015, unless otherwise noted.

* * * * *

[FR Doc. 2021-24966 Filed 11-15-21; 8:45 am]

BILLING CODE 6560-50-P